DEPARTMENT OF ENERGY

Federal Energy Regulatory Commission

Combined Notice of Filings #1

March 21, 2007.

Take notice that the Commission received the following electric rate filings:

Docket Numbers: ER99-2915-002.

Applicants: Indeck-Olean Limited Partnership.

Description: Indeck-Olean Limited Partnership submits its Triennial Market Power update filed pursuant to FERC's 3/16/04 letter order.

Filed Date: 03/16/2007.

Accession Number: 20070321-0055.

Comment Date: 5 p.m. Eastern Time on Friday, April 06, 2007.

Docket Numbers: ER00-2885-015; ER06-864-007; ER06-1543-005; ER01-2765-014; ER02-1582-013; ER02-1785-010; ER02-2102-014; ER97-2414-010; ER03-1283-008.

Applicants: Cedar Brakes I, L.L.C.; Bear Energy LP; Brush Cogeneration Partners; Cedar Brakes II, L.L.C.; Mohawk River Funding IV, L.L.C.; Thermo Cogeneration Partnership L.P.; Utility contract Funding, L.L.C.; Lowell Cogeneration Company Limited Partnership; Vineland Energy LLC.

Description: Bear Energy, LP and its Affiliates notify the FERC that it has entered into an energy management agreement with Milford Power Co, LLC in accordance with Order 652.

Filed Date: 03/19/2007.

Accession Number: 20070321-0056.

Comment Date: 5 p.m. Eastern Time on Monday, April 09, 2007.

Docket Numbers: ER98-2259-005.

Applicants: LSP Energy Limited Partnership.

Description: LSP Energy Limited Partnership submits its updated triennial market power analysis pursuant to the requirements of FERC's 5/14/98 Order.

Filed Date: 03/19/2007.

Accession Number: 20070321-0054.

Comment Date: 5 p.m. Eastern Time on Monday, April 09, 2007.

Docket Numbers: ER01-1385-028; ER01-3155-019; ER04-230-029; EL01-45-027.

Applicants: New York Independent System Operator, Inc.

Description: New York Independent System Operator, Inc. submits its Tenth Quarterly Report regarding effort to efficiently utilize combined cycle units in the NYISO markets.

Filed Date: 03/15/2007.

Accession Number: 20070315-5035.

Comment Date: 5 p.m. Eastern Time on Thursday, April 05, 2007.

Docket Numbers: ER07-570-001.

Applicants: New York Independent System Operator, Inc.

Description: New York Independent System Operator, Inc submits a minor amendment/addition to the proposed revisions to Attachment F to its Open Access Transmission Tariff.

Filed Date: 03/16/2007.

Accession Number: 20070321-0057.

Comment Date: 5 p.m. Eastern Time on Friday, April 06, 2007.

Docket Numbers: ER07-637-000.

Applicants: Entergy Gulf States, Inc.; Calcasieu Power, LLC.

Description: American Electric Power Service Corporation submits a Unit Power Agreement under which AEP Generating Co proposes to sell all of the capacity and associated energy, & ancillary services from MW Lawrenceburg generating plant.

Filed Date: 03/16/2007.

Accession Number: 20070321-0062.

Comment Date: 5 p.m. Eastern Time on Friday, April 06, 2007.

Docket Numbers: ER07-r638-000.

Applicants: Maine Public Service Company.

Description: Maine Public Service Company submits an informational filing setting forth the changed loss factor effective 3/1/07 together with back-up materials.

Filed Date: 03/15/2007.

Accession Number: 20070321-0063.

Comment Date: 5 p.m. Eastern Time on Thursday, April 05, 2007.

Take notice that the Commission received the following electric securities filings:

Docket Numbers: ES07-17-001.

Applicants: AEP Generating Company.

Description: AEP Generating Company submits an amended application under section 204 of the FPA for authorization to issue securities.

Filed Date: 03/20/2007.

Accession Number: 20070320-5017.

Comment Date: 5 p.m. Eastern Time on Friday, March 30, 2007.

Docket Numbers: ES07-27-000.

Applicants: Detroit Edison Company.

Description: The Detroit Edison Company's application for an order authorizing short-term securities bearing final maturity dates not to exceed one year after issue, in an aggregate principal amount not to exceed $1.0 billion.

Filed Date: 03/19/2007.

Accession Number: 20070321-0058.

Comment Date: 5 p.m. Eastern Time on Monday, April 09, 2007.

Take notice that the Commission received the following electric reliability filings:

Docket Numbers: RR06-1-007.

Applicants: North American Electric Reliability Corporation.

Description: North American Electric Reliability Corporation submits a compliance filing in response to the Commission's 1/18/07 and 3/9/07 Order.

Filed Date: 03/19/2007.

Accession Number: 20070319-5027.

Comment Date: 5 p.m. Eastern Time on Wednesday, April 18, 2007.

Any person desiring to intervene or to protest in any of the above proceedings must file in accordance with Rules 211 and 214 of the Commission's Rules of Practice and Procedure (18 CFR 385.211 and 385.214) on or before 5:00 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Philis J. Posey,
Acting Secretary.

[FR Doc. E7-5533 Filed 3-26-07; 8:45 am]

BILLING CODE 6717-01-P